DEPARTMENT OF HEALTH AND HUMAN SERVICES

Centers for Medicare and Medicaid Services

[Document Identifiers: CMS-R-5, CMS-R-96, CMS-209]

Agency Information Collection Activities: Proposed Collection; Comment Request

Agency: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

(1) Type of Information Collection Request: Extension of a currently approved collection; Title of Information Collection: Physician Certifications/Recertifications in Skilled Nursing Facilities (SNFs) Manual Instructions and Supporting Regulations in 42 CFR Section 424.20; Form No.: CMS-R-5 (OMB# 0938-0454); Use: This information collection requires SNFs to keep record of physician certifications and recertifications of information such as the need for care and services, estimated duration of the SNF stay, and plan for home care.; Frequency: On occasion; Affected Public: State, local or tribal government, individuals or households, business or other for-profit, not-for-profit institutions; Number of Respondents: 2,068,716; Total Annual Responses: 883,838; Total Annual Hours: 441,793.

(2) Type of Information Collection Request: Extension of a currently approved collection; Title of Information Collection: Emergency and Foreign Hospital Services-Beneficiary Statement in Canadian Travel Claims and Supporting Regulations in 42 CFR, Section 424.123; Form No.: CMS-R-96 (OMB# 0938-0484); Use: Payment may be made for certain part A inpatient hospital services and part B outpatient hospital services provided in a non-participating U.S. or foreign hospital when services are necessary to prevent the death or serious impairment of the health of the individual. This statement must be submitted by the beneficiary to support their claim for payment.; Frequency: On occasion; Affected Public: Individuals or households; Number of Respondents: 1,100; Total Annual Responses: 1,100; Total Annual Hours: 275.

(3) Type of Information Collection Request: Extension of a currently approved collection; Title of Information Collection: Laboratory Personnel Report Clinical Laboratory Improvement Amendments (CLIA) and Supporting Regulations in 42 CFR 493.1—493.2001; Form No.: HCFA-0209 (OMB# 0938-0151); Use: CLIA requires the Department of Health and Human Services (DHHS) to establish certification requirements for any laboratory that performs tests on human specimens, and to certify through the issuance of a certificate that those laboratories meet the requirements established by DHHS. The information collected on this survey form is used in the administrative pursuit of the Congressionally-mandated program with regard to regulation of laboratories participating in CLIA. Information on personnel qualifications of all technical personnel is needed to ensure the sample is representative of all laboratories; Frequency: Biennially; Affected Public: Business or other for profit, not for profit institutions, Federal government, and State, local or tribal government; Number of Respondents: 22,500; Total Annual Responses: 11,250; Total Annual Hours: 5,625.

To obtain copies of the supporting statement and any related forms for the proposed paperwork collections referenced above, access CMS's Web Site address at http://cms.hhs.gov/regulations/pra/default.asp, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room N2-14-26, 7500 Security Boulevard, Baltimore, Maryland 21244-1850.

Dated: November 21, 2002.
John P. Burke, III,
Paperwork Reduction Act Team Leader, CMS Reports Clearance Officer, Office of Strategic Operations and Strategic Affairs, Division of Regulations Development and Issuances.

[FR Doc. 02-30366 Filed 11-29-02; 8:45 am]

BILLING CODE 4120-03-P